DEPARTMENT OF TRANSPORTATION

Federal Aviation Administration

[Summary Notice No. PE-2003-50]

Petitions for Exemption; Summary of Petitions Received; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, Sandy Buchanan-Sumter (202) 267-7271, or Denise Emrick (202) 267-5174, Office of Rulemaking (ARM-1), Federal Aviation Administration, 800 Independence Avenue, SW., Washington, DC 20591.

This notice is published pursuant to 14 CFR 11.85 and 11.91.

Issued in Washington, DC, on August 12, 2003.
Donald P. Byrne,
Assistant Chief Counsel for Regulations.

Dispositions of Petitions

Docket No. FAA-2001-9141.

Petitioner: Daedalus, Inc., d.b.a. Business Aviation Services.

Section of 14 CFR Affected: 14 CFR 135.143(c)(2).

Description of Relief Sought/Disposition: To permit Daedalus, Inc., d.b.a. Business Aviation Services to operate certain aircraft under part 135 without a TSO-C112 (Mode S) transponder installed on those aircraft. Grant, 7/30/2003, Exemption No. 7569A.

Docket No.: FAA-2001-9862.

Petitioner: Bright Star Aviation.

Section of 14 CFR Affected: 14 CFR 135.143(c)(2).

Description of Relief Sought/Disposition: To permit Bright Star Aviation to operate certain aircraft under part 135 without a TSO-C112 (Mode S) transponder installed on those aircraft. Grant, 7/29/2003, Exemption No. 7078B.

Docket No.: FAA-2001-10606.

Petitioner: IHC Health Service, d.b.a. Life Flight of Salt Lake City, Utah.

Section of 14 CFR Affected: 14 CFR 135.143(c)(2).

Description of Relief Sought/Disposition: To permit IHC Health Service, d.b.a. Life Flight of Salt Lake City, Utah, to operate certain aircraft under part 135 without a TSO-C112 (Mode S) transponder installed on those aircraft. Grant, 7/29/2003, Exemption No. 7079B.

Docket No.: FAA-2001-10790.

Petitioner: Air Logistics, LLC.

Section of 14 CFR Affected: 14 CFR 135.143(c)(2).

Description of Relief Sought/Disposition: To permit Air Logistics, LLC, to operate certain aircraft under part 135 without a TSO-C112 (Mode S) transponder installed on those aircraft. Grant, 7/29/2003, Exemption No. 6736C.

Docket No.: FAA-2001-11089.

Petitioner: The Collings Foundations.

Section of 14 CFR Affected: 14 CFR 91.315, 91.319(a), 119.5(g), and 119.21(a).

Description of Relief Sought/Disposition: To permit the Collings Foundation to operate its Boeing B-17, which is certified in the limited category, its Consolidated B-24, which is certified in the experimental category, and its North American B-25 and its Grumman TBM, both of which are certified in the limited category, for the purpose of carrying passengers on local flights for compensation or hire. Grant, 7/17/2003, Exemption No. 6540F.

Docket No.: FAA-2001-10356.

Petitioner: U.S. Army Aeronautical Service Agency.

Section of 14 CFR Affected: 14 CFR 91.177(a)(2) and 91.179(b)(1).

Description of Relief Sought/Disposition: To permit properly equipped U.S. Army Special Operations Command aircraft to conduct low-level operations without complying with enroute minimum altitudes for flight under instrument flight rules (IFR) or direction of flight requirements for IFR enroute segment in uncontrolled airspace. Grant, 7/8/2003, Exemption No. 7631B.

Docket No.: FAA-2001-10984.

Petitioner: Air Tahoma, Inc.

Section of 14 CFR Affected: 14 CFR 135.143(c)(2).

Description of Relief Sought/Disposition: To permit Air Tahoma, Inc., to operate certain aircraft under part 135 without a TSO-C112 (Mode S) transponder installed in those aircraft. Grant, 7/2/2003, Exemption No. 7664A.

Docket No.: FAA-2003-15512.

Petitioner: Security Aviation, Inc.

Section of 14 CFR Affected: 14 CFR 135.143(c)(2).

Description of Relief Sought/Disposition: To permit Security Aviation, Inc., operate certain aircraft under part 135 without a TSO-C112 (Mode S) transponder installed in those aircraft. Grant, 7/3/2003, Exemption No. 8090.

Docket No.: FAA-2003-14921.

Petitioner: Indianapolis Aviation, Inc.

Section of 14 CFR Affected: 14 CFR 135.143(c)(2).

Description of Relief Sought/Disposition: To permit Indianapolis Aviation, Inc., to operate certain aircraft under part 135 without a TSO-C112 (Mode S) transponder installed in those aircraft. Grant, 7/3/2003, Exemption No. 7082B.

Docket No.: FAA-2002-13932

Petitioner: Polar Air Cargo

Section of 14 CFR Affected: 14 CFR 121.434(c)(1)(ii)

Description of Relief Sought/Disposition: To permit Polar Air Cargo to substitute a qualified and authorized check airman or aircrew program designee for an FAA inspector to observe a qualifying pilot in command who is completing initial or upgrade training specified in § 121.424 during at least one flight leg that includes a takeoff and a landing. Grant, 7/2/2003, Exemption No. 8089.

Docket No.: FAA-2002-13163

Petitioner: Ryan International Airlines, Inc.

Section of 14 CFR Affected: 14 CFR 121.434(c)(1)(ii)

Description of Relief Sought/Disposition: To permit Ryan International Airlines, Inc., to substitute a qualified and authorized check airman or aircrew program designee for an FAA inspector to observe a qualifying pilot in command who is completing initial or upgrade training specified in § 121.424 during at least one flight leg that includes a takeoff and a landing. Grant, 7/2/2003, Exemption No. 8085.

Docket No.: FAA-2000-8095

Petitioner: Eagle Canyon Airlines, Inc., d.b.a. Scenic Airlines

Section of 14 CFR Affected: 14 CFR 121.434(c)(1)(ii)

Description of Relief Sought/Disposition: To permit Eagle Canyon Airlines to substitute a qualified and authorized check airman or aircrew program designee for an FAA inspector to observe a qualifying pilot in command who is completing initial or upgrade training specified in § 121.424 during at least one flight leg that includes a takeoff and a landing. Grant, 7/2/2003, Exemption No. 8088.

Docket No.: FAA-2000-7345

Petitioner: Chicago Express Airlines, Inc.

Section of 14 CFR Affected: 14 CFR 121.434(c)(1)(ii)

Description of Relief Sought/Disposition: To permit Chicago Express Airlines, Inc., to substitute a qualified and authorized check airman or aircrew program designee for an FAA inspector to observe a qualifying pilot in command who is completing initial or upgrade training specified in § 121.424 during at least one flight leg that includes a takeoff and a landing. Grant, 7/2/2003, Exemption No.8086.

Docket No.: FAA-2003-14356

Petitioner: TransMeridian Airlines

Section of 14 CFR Affected: 14 CFR 121.434(c)(1)(ii)

Description of Relief Sought/Disposition: To permit TransMeridian Airlines to substitute a qualified and authorized check airman or aircrew program designee for an FAA inspector to observe a qualifying pilot in command who is completing initial or upgrade training specified in § 121.424 during at least one flight leg that includes a takeoff and a landing. Grant, 7/2/2003, Exemption No.8087.

Docket No.: FAA-2003-15167

Petitioner: Michael W. Higgins

Section of 14 CFR Affected: 14 CFR 121.383(c)

Description of Relief Sought/Disposition: To permit Michael W. Higgins to act as a pilot in operations conducted under part 121 after reaching his 60th birthday. Denial, 6/29/2003, Exemption No.8080.

Docket No.: FAA-2003-15445

Petitioner: Sunworld International Airlines, Inc.

Section of 14 CFR Affected: 14 CFR 121.434(c)(1)(ii)

Description of Relief Sought/Disposition: To permit Sunworld International Airlines, Inc., to substitute a qualified and authorized check airman or aircrew program designee for an FAA inspector to observe a qualifying pilot in command who is completing initial or upgrade training specified in § 121.424 during at least one flight leg that includes a takeoff and a landing. Grant, 7/14/2003, Exemption No.8094.

Docket No.: FAA-2003-15444

Petitioner: America West Airlines

Section of 14 CFR Affected: 14 CFR 121.434(c)(1)(ii)

Description of Relief Sought/Disposition: To permit America West Airlines to substitute a qualified and authorized check airman or aircrew program designee for an FAA inspector to observe a qualifying pilot in command who is completing initial or upgrade training specified in § 121.424 during at least one flight leg that includes a takeoff and a landing. Grant, 7/14/2003, Exemption No.8095.

Docket No.: FAA-2003-14850.

Petitioner: Ariel Weiss.

Section of 14 CFR Affected: 14 CFR 61.89(a)(5) and 61.111(b).

Description of Relief Sought/Disposition: To permit Ariel Weiss' student pilots to conduct solo flights between the Dutch islands of Saint Maarten, Saba, and Saint Eustatius in the Netherlands Antilles and the islands of Federation of St. Kitts and Nevis in the eastern Caribbean while fulfilling the cross-country requirements for a private pilot certificate. Grant, 7/9/2003, Exemption No. 8092.

Docket No.: FAA-2003-15482.

Petitioner: Wayne W. Galvani.

Section of 14 CFR Affected: 14 CFR 121.383(c).

Description of Relief Sought/Disposition: To permit Wayne W. Galvani to act as a pilot in operations conducted under part 121 after reaching his 60th birthday. Denial, 7/16/2003, Exemption No. 8096.

Docket No.: FAA-2002-13274.

Petitioner: China Airlines, Ltd.

Section of 14 CFR Affected: 14 CFR 61.77(a) and (b) and, § 62.23(a) and (b).

Description of Relief Sought/Disposition: To permit China Airlines, Ltd., to add a U.S.-registered A300-600R airplane, to the list of aircraft previously authorized for China Airlines' airmen who operate certain U.S.-registered aircraft that are leased to a non-U.S. citizen, for carrying persons or property for compensation or hire, to be eligible for a special purpose pilot authorization and a special purpose flight engineer certificate, without holding a current foreign license or certificate issued by a foreign contracting state to the Convention on International Civil Aviation Organization. Grant, 7/9/2003, Exemption No. 7980A.

Docket No.: FAA-2003-15677.

Petitioner: Zdravko Podolski.

Section of 14 CFR Affected: 14 CFR 91.109(a).

Description of Relief Sought/Disposition: To permit Zdravko Podolski to conduct certain flight instruction in Beechcraft Bonanza/Debonair aircraft equipped with a functioning throw-over control wheel instead of functioning dual controls. Grant, 7/24/2003, Exemption No. 8101.

Docket No.: FAA-2001-10045.

Petitioner: Mountain Air Cargo, Inc.

Section of 14 CFR Affected: 14 CFR 91.203(a)(b), 121.153(a)(1), and 135.25(a)(1).

Description of Relief Sought/Disposition: To permit Mountain Air Cargo, Inc., to temporarily operate U.S.-registered aircraft in domestic airline operations under part 121 or part 135 without the airworthiness certificate onboard subject to certain conditions and limitations. Grant, 7/23/2003, Exemption No. 7620A.

Docket No.: FAA-2003-15567.

Petitioner: Express.Net Airlines.

Section of 14 CFR Affected: 14 CFR 91.203 and 121.153(a)(1).

Description of Relief Sought/Disposition: To permit Express.Net Airlines to temporarily operate their U.S.-registered aircraft following incidental loss or mutilation of the certicate of airworthiness or registration, or both. Grant, 7/23/2003, Exemption No. 8100.

Docket No.: FAA-2003-15446.

Petitioner: JetBlue Airways Corporation.

Section of 14 CFR Affected: 14 CFR 121.434(c)(1)(ii).

Description of Relief Sought/Disposition: To permit JetBlue Airways Corporation to substitute a qualified and authorized check airman or aircrew program designee for an FAA inspector to observe a qualifying pilot in command who is completing initial or upgrade training specified in § 121.424 during at least one flight leg that includes a takeoff and a landing. Grant, 7/22/2003, Exemption No. 8099.

Docket No.: FAA-2003-15643.

Petitioner: John L. Geitz.

Section of 14 CFR Affected: 14 CFR 91.109(a) and (b)(3).

Description of Relief Sought/Disposition: To permit John L. Geitz to conduct certain flight training and to provide simulated instrument flight experience in certain Beech airplanes that are equipped with a functioning throw-over control wheel. Grant, 7/18/2003, Exemption No. 8097.

Docket No.: FAA-2001-9924.

Petitioner: Airbus North America Holdings, Inc.

Section of 14 CFR Affected: 14 CFR 61.77(a).

Description of Relief Sought/Disposition: To permit Airbus North America Holdings, Inc., (Airbus) to allow pilots and flight engineers employed by Airbus to be eligible for issuance of special purpose pilot and flight engineer authorizations, under part 61 and 65, as appropriate, for the purpose of performing delivery flights of U.S.-registered airplanes between foreign countries and from a foreign country to the United States. Grant, 7/17/2003, Exemption No. 6850C.

[FR Doc. 03-21108 Filed 8-15-03; 8:45 am]

BILLING CODE 4910-13-P